DEPARTMENT OF ENERGY

Federal Energy Regulatory Commission

[Docket Nos. AD21-6-000; AD20-6-000]

RTO/ISO Credit Principles and Practices; Credit Reforms in Organized Wholesale Electric Markets; Supplemental Notice of Technical Conference

Correction

In notice document 2021-04261, appearing on page 12187 in the issue of Tuesday, March 2, 2021, make the following correction:

On page 12187, in the first column, on the twenty-seventh line from the bottom of the page, the docket number is corrected to read as set forth above.

[FR Doc. C1-2021-04261 Filed 3-3-21; 8:45 am]

BILLING CODE 1301-00-D